DEPARTMENT OF HEALTH AND HUMAN SERVICES

Centers for Disease Control and Prevention

Disease, Disability, and Injury Prevention and Control Special Emphasis Panel (SEP): Cooperative Agreement for Research on the Laboratory Diagnosis, Immunology and Pathogenesis of Lyme Disease in the United States, Program Announcement 04006

In accordance with section 10(a)(2) of the Federal Advisory Committee Act (Pub. L. 92-463), the Centers for Disease Control and Prevention (CDC) announces the following meeting:

Name: Disease, Disability, and Injury Prevention and Control Special Emphasis Panel (SEP): Cooperative Agreement for Research on the Laboratory Diagnosis, Immunology, and Pathogenesis of Lyme Disease in the United States, Program Announcement 04006.

Times and Dates: 8:30 a.m.-9 a.m., January 14, 2004 (Open); 9 a.m.-6 p.m., January 14, 2004 (Closed).

Place: Atlanta Airport Marriott, 4711 Best Road, Atlanta, GA 30337, Telephone (404) 766-7900.

Status: Portions of the meeting will be closed to the public in accordance with provisions set forth in section 552b(c)(4) and (6), Title 5 U.S.C., and the Determination of the Director, Management Analysis and Services Office, CDC, pursuant to Public Law 92-463.

Matters to be Discussed: The meeting will include the review, discussion, and evaluation of applications received in response to Program Announcement 04006.

For Further Information Contact: Nora L. Keenan, Ph.D., Scientific Review Administrator, Office of Extramural Research, National Center for Infectious Diseases, CDC, 1600 Clifton Road, NE, MS-C19, Atlanta, GA 30333, Telephone (404) 639-2176.

The Director, Management Analysis and Services Office, has been delegated the authority to sign Federal Register notices pertaining to announcements of meetings and other committee management activities, for both CDC and the Agency for Toxic Substances and Disease Registry.

Dated: December 3, 2003.
Alvin Hall,
Director, Management Analysis and Services Office, Centers for Disease Control and Prevention (CDC).

[FR Doc. 03-30956 Filed 12-15-03; 8:45 am]

BILLING CODE 4163-18-P